DEPARTMENT OF TRANSPORTATION

National Highway Traffic Safety Administration

Reports, Forms, and Record Keeping Requirements; Agency Information Collection Activity Under OMB Review

AGENCY: National Highway Traffic Safety Administration (NHTSA), U.S. Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on January 21, 2015 (Federal Register/Vol. 80, No. 13/pp. 3008-3010).

DATES: Comments must be submitted on or before May 29, 2015.

ADDRESSES: Send comments, within 30 days, to the Office of Information and Regulatory Affairs, Office of Management and Budget, 725-17th Street NW., Washington, DC 20503, Attention NHTSA Desk Officer.

FOR FURTHER INFORMATION CONTACT: Dr. Amanda M. Kelley, 202-366-7394.

SUPPLEMENTARY INFORMATION: Title: Evaluation of Correct Child Restraint System Installations.

Type of Request: New information collection requirement.

Abstract: Motor vehicle crashes are a leading cause of death to children in the United States. In 2012, a total of 952 children younger than 13 years died in motor vehicle traffic crashes, and two-thirds of these fatalities occurred among children riding in passenger vehicles. The National Highway Traffic Safety Administration (NHTSA), recommends that all children ages 12 years and under be properly buckled in an age- and size-appropriate car seat, booster seat, or seat belt in the rear seat. Currently, there are four types of child restraint systems designed for children: Infant, convertible, combination, and belt-positioning booster seats. Each system is designed to protect a child within a given height and weight category in the event of a crash.

While child restraint use has increased over the years, many children are still fatally injured as a result of motor vehicles crashes. One possible explanation for this occurrence could be the large number of child passengers who are either riding unrestrained in vehicles, improperly placed in a CRS, or prematurely graduated to an adult vehicle seat belt system. The most prevalent installation errors observed include: Incorrect harness routing slot used, improper harness clip position, loose CRS installation, loose harness straps, and improper lap belt placement (NHTSA, 2012). Researchers have also identified errors related to caregivers selecting the correct CRS for the children's ages, heights, and weights.

Evaluating the causes of the various selection and installation errors can be challenging. That is, one or more factors may contribute to any one type of installation error. There are numerous CRS makes and models marketed to the consumer, each with its own installation procedures/manual. In addition, vehicle manufacturers design vehicle restraint systems and vehicle seats that are incompatible with various CRSs. New vehicles are continually introduced to the fleet, and CRSs continue to evolve each year. Finally, there is a never-ending flow of new parents/caregivers who need to be educated on child passenger safety. Despite their inexperience, new parents may overestimate their own accuracy in selecting and securely installing a CRS to the vehicle and securing the child in the CRS.

In an effort to reduce the number of errors, NHTSA is undertaking a study to gain some insight into the causes of errors related to selecting and installing CRSs. To accomplish this, NHTSA will evaluate installation performance and caregiver confidence for 150 experienced and novice CRS users and determine which factors contribute to both installation and securement errors and to determine what factors related to the CRS, vehicle, and user confidence contribute to errors. Evaluation measures will involve the independent identification, collection and evaluation of both qualitative and quantitative data that specifically document the types of errors made by both user groups, as well as vehicle and CRS features that might contribute to those errors. Identifying these causal factors that contribute to errors related to selecting and installing CRSs, as well as those factors that contribute to accurately selecting and properly installing CRSs for both novice and experienced users, will be the first step in increasing the safety of child passengers in moving vehicles. In addition, overall findings can be made available to CRS manufacturers and vehicle manufacturers related to improvements to specific CRS and vehicle design features that may foster a better fit in the vehicles and securement for children.

Affected Public: Participants will represent both “novice” and “experienced” CRS users recruited from the Greater Washington, DC area. “Experienced” users regularly care for a child under the age of 4 years, transport the child in a vehicle at least twice a week, have secured the child in a CRS a minimum of five times in the past 6 months, and have installed any type of CRS at least once in the past 12 months. “Novice” CRS users do not regularly transport children and have not installed a CRS in the past 6 months will be recruited for participation.

Estimated Total Annual Burden: 300 hours (150 participants, averaging 2 hours).

Comments are invited on the following:

(i) Whether the proposed collection of information is necessary for the proper performance of the functions of the agency, including whether the information will have practical utility;

(ii) the accuracy of the agency's estimate of the burden of the proposed information collection;

(iii) ways to enhance the quality, utility, and clarity of the information to be collected; and

(iv) ways to minimize the burden of the collection of information on respondents, including the use of automated collection techniques or other forms of information technology.

A comment to OMB is most effective if OMB receives it within 30 days of publication.

Authority: 44 U.S.C. Section 3506(c)(2)(A).

Dated: April 23, 2015.
Jeff Michael,
Associate Administrator, Research and Program Development.

[FR Doc. 2015-09989 Filed 4-28-15; 8:45 am]

BILLING CODE 4910-59-P